DEPARTMENT OF COMMERCE

Foreign-Trade Zones Board

[Docket 16-2006]

Foreign-Trade Zone 202 Los Angeles, California, Application for Subzone, Sony Electronics, Inc., (Audio, Video, Communications and Information Technology Products and Accessories), Los Angeles, Carson and Lynwood, California

An application has been submitted to the Foreign-Trade Zones Board (the Board) by the Board of Harbor Commissioners of the City of Los Angeles, grantee of FTZ 202, requesting special-purpose subzone status for the warehousing and distribution facilities of Sony Electronics, Inc. (Sony), located in Los Angeles, Carson and Lynwood, California. The application was submitted pursuant to the provisions of the Foreign-Trade Zones Act, as amended (19 U.S.C. 81a-81u), and the regulations of the Board (15 CFR part 400). It was formally filed on April 28, 2006.

The Sony facilities (250 employees) consist of five sites on 65 acres: Site 1 (21.5 acres) is located at 2201 East Carson St., Carson; Site 2 (20.1 acres) is located at 1651 E. Glenn Curtiss St., Carson; Site 3 (1 acre) is located at 6041 W. Imperial Highway, Los Angeles; Site 4 (7 acres) is located at 1071 E. 233rd St., Carson; and Site 5 (15 acres) is located at 2700 E. Imperial Highway, Lynwood. The facilities are used for the storage, distribution, packaging, kitting, inspecting, testing and repair of audio, video, communications and information technology products and accessories.

Zone procedures would exempt Sony from customs duty payments on products that are re-exported. Some 5 percent of the products are re-exported. On its domestic sales, the company would be able to defer duty payments until merchandise is shipped from the facilities and entered for consumption. FTZ designation would further allow Sony to utilize certain customs procedures resulting in increased efficiencies for its logistics and distribution operations. In addition, Sony is requesting authority to choose the duty rates during customs entry procedures that apply to digital camera and camcorder kits (HTS 8525.40, duty rate ranges from duty-free to 2.1%) for the following imported components: memory sticks, digital still cameras, digital camcorders, rechargeable battery packs and soft carrying cases (HTS 4202.91, 8507.80, 8523.90, 8525.40, duty rate ranges from duty-free to 4.5%). The company has also indicated that it will import soft carrying cases (HTS 4202.92, duty rate 17.6%), but that they will be admitted to the zone in privileged foreign status. The request indicates that the savings from FTZ procedures would help improve the plants' international competitiveness.

In accordance with the Board's regulations, a member of the FTZ staff has been appointed examiner to investigate the application and report to the Board.

Public comment is invited from interested parties. Submissions (original and 3 copies) shall be addressed to the Board's Executive Secretary at the address below. The closing period for their receipt is July 10, 2006. Rebuttal comments in response to material submitted during the foregoing period may be submitted during the subsequent 15-day period to July 24, 2006.

A copy of the application and accompanying exhibits will be available for public inspection at each of the following locations:

U.S. Department of Commerce Export Assistance Center, 444 South Flower Street, 34th Floor, Los Angeles, CA 90071.

Office of the Executive Secretary, Foreign-Trade Zones Board, U.S. Department of Commerce, Room 1115, 1401 Constitution Ave. NW., Washington, DC 20230.

Dated: April 28, 2006.
Dennis Puccinelli,
Executive Secretary.

[FR Doc. E6-7043 Filed 5-8-06; 8:45 am]

BILLING CODE 3510-DS-S